DEPARTMENT OF THE INTERIOR

Minerals Management Service

[Docket No. MMS-2009-OMM-0013]

MMS Information Collection Activity: 1010-0006, Leasing of Sulphur or Oil and Gas in the Outer Continental Shelf and Outer Continental Shelf Oil and Gas Leasing, Extension of a Collection; Comment Request

AGENCY: Minerals Management Service (MMS), Interior.

ACTION: Notice of extension of an information collection (1010-0006).

SUMMARY: To comply with the Paperwork Reduction Act of 1995 (PRA), MMS is inviting comments on a collection of information that we will submit to the Office of Management and Budget (OMB) for review and approval. The information collection request (ICR) concerns the paperwork requirements in the regulations under 30 CFR 256, “Leasing of Sulphur or Oil and Gas in the Outer Continental Shelf,” and 30 CFR 260, “Outer Continental Shelf Oil and Gas Leasing.”

DATES: Submit written comments by December 7, 2009.

FOR FURTHER INFORMATION CONTACT: Cheryl Blundon, Regulations and Standards Branch at (703) 787-1607. You may also contact Cheryl Blundon to obtain a copy, at no cost, of the regulations and the forms that require the subject collection of information.

ADDRESSES: You may submit comments by either of the following methods listed below.

• Electronically: go to http://www.regulations.gov. In the entry titled “Enter Keyword or ID,” enter docket ID MMS-2009-OMM-0013 then click search. Under the tab “View by Docket Folder” you can submit public comments and view supporting and related materials available for this collection of information. The MMS will post all comments.

• Mail or hand-carry comments to the Department of the Interior; Minerals Management Service; Attention: Cheryl Blundon; 381 Elden Street, MS-4024; Herndon, Virginia 20170-4817. Please reference Information Collection 1010-0006 in your subject line and include your name and return address.

SUPPLEMENTARY INFORMATION: Title: 30 CFR Part 256, “Leasing of Sulphur or Oil and Gas in the Outer Continental Shelf,” and 30 CFR Part 260, “Outer Continental Shelf Oil and Gas Leasing.”

Form(s): MMS-150, MMS-151, MMS-152, MMS-2028, and MMS-2028A.

OMB Control Number: 1010-0006.

Abstract: The Outer Continental Shelf (OCS) Lands Act, as amended (43 U.S.C. 1331 et seq., and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Also, the Energy Policy and Conservation Act of 1975 (EPCA) prohibits certain lease bidding arrangements (42 U.S.C. 6213(c)).

The Independent Offices Appropriations Act of 1952 (IOAA), 31 U.S.C. 9701, authorizes Federal agencies to recover the full cost of services that provide special benefits. Under the Department of the Interior's (DOI) policy implementing the IOAA, the Minerals Management Service (MMS) is required to charge the full cost for services that provide special benefits or privileges to an identifiable non-Federal recipient above and beyond those that accrue to the public at large. Instruments of transfer of a lease or interest are subject to cost recovery, and MMS regulations specify the filing fee for these transfer applications.

These authorities and responsibilities are among those delegated to the MMS under which we issue regulations governing oil and gas and sulphur operations in the OCS. This ICR addresses the regulations at 30 CFR Part 256, “Leasing of Sulphur or Oil and Gas in the OCS,” 30 CFR Part 260, “OCS Oil and Gas Leasing,” and the associated supplementary Notices to Lessees and Operators (NTLs) intended to provide clarification, description, or explanation of these regulations. This ICR also concerns the use of forms to process bonds per subpart I, Bonding, the transfer of interest in leases per subpart J, Assignments, Transfers and Extensions, and the filing of relinquishments per subpart K, Termination of Leases. The forms are:

• MMS-2028, OCS Mineral Lessee's and Operator's Bond,

• MMS-2028A, OCS Mineral Lessee's and Operator's Supplemental Plugging and Abandonment Bond,

• MMS-150, Assignment of Record Title Interest in Federal OCS Oil and Gas Lease,

• MMS-151, Assignment of Operating Rights Interest in Federal OCS Oil and Gas Lease,

• MMS-152, Relinquishment of Federal OCS Oil and Gas Lease.

We will protect specific individual replies from disclosure as proprietary information according to section 26 of the OCS Lands Act, the Freedom of Information Act (5 U.S.C. 552) and its implementing regulations (43 CFR part 2), and 30 CFR 256.10(d). No items of a sensitive nature are collected. Responses are mandatory or are required to obtain or retain a benefit.

Frequency: The frequency of response is mostly on occasion, annual.

Description of Respondents: Respondents comprise Federal oil and gas or sulphur lessees and/or operators.

Estimated Reporting and Recordkeeping Hour Burden: The currently approved annual reporting burden for this collection is 17,103 hours. The following chart details the individual components and respective hour burden estimates of this ICR. In calculating the burdens, we assumed that respondents perform certain requirements in the normal course of their activities. We consider these to be usual and customary and took that into account in estimating the burden.

Citation 30 CFR part 256 and NTLs | Reporting and/or recordkeeping requirement | Hour burden: Non-hour cost burden
Subparts A, C, E, H, L, M | None | 0
Subparts G, H, I, J: 37; 53; 68; 70; 71; 72; 73 | Request approval for various operations or submit plans or applications. Burden included with other approved collections in 30 CFR Part 250 (1010-0114, 1010-0141, 1010-0142, 1010-0149, 1010-0151) | 0
Subpart B: All sections | Submit suggestions and relevant information in response to request for comments on proposed 5-year leasing program, including information from States/local governments. Not considered IC as defined in 5 CFR 1320.3(h)(9) | 0
Subpart D: All sections | Submit response to Call for Information and Nominations on areas for leasing of minerals in specified areas in accordance with an approved leasing program, including information from States/local governments. Not considered IC as defined in 5 CFR 1320.3(h)(9) | 0
Subpart F: 31 | States or local governments submit comments/recommendations on size, timing, or location of proposed lease sale | 4
Subpart G: 35; 46(d), (e) | Establish a Company File for qualification; submit updated information, submit qualifications for lessee/bidder, request exception | 2
41; 43; 46(g) | Submit qualification of bidders for joint bids and statement or report of production, along with supporting information/appeal | 2
44; 46 | Submit bids and required information | 5
47(c) | File agreement to accept joint lease on tie bids | 3½
47(e)(1), (e)(3) | Request for reconsideration of bid rejection. Not considered IC as defined in 5 CFR 1320.3(h)(9) | 0
47(f), (i); 50 | Execute lease (includes submission of evidence of authorized agent and request for dating of leases) | 1
Subpart I: 52(f)(2), (g)(2) | Submit authority for Regional Director to sell Treasury or alternate type of securities | 2
53(a), 53(b); 54 | OCS Mineral Lessee's and Operator's Bond (Form MMS-2028) | ¼
53(c), (d), (f); 54(e) | Demonstrate financial worth/ability to carry out present and future financial obligations, request approval of another form of security, or request reduction in amount of supplemental bond required | 3½
54 | OCS Mineral Lessee's and Operator's Supplemental Plugging & Abandonment Bond (Form MMS-2028A) | ¼
55 | Notify MMS of any lapse in previous bond/action filed alleging lessee, surety, or guarantor is insolvent or bankrupt | 1
56 | Provide plan/instructions to fund lease-specific abandonment account and related information; request approval to withdraw funds | 12
57 | Provide third-party guarantee, indemnity agreement, financial information, related notices, reports, and annual update; notify MMS if guarantor becomes unqualified | 19
57(d)(3); 58 | Notice of and request approval to terminate period of liability, cancel bond, or other security | ½
59(c)(2) | Provide information to demonstrate lease will be brought into compliance | 16
Subpart J: 62; 63; 64; 65; 67 | File application and required information for assignment or transfer for approval/comment on filing fee (Forms MMS-150 and MMS-151) | 1 $186 per application.
63; 64(a)(8) | Submit non-required documents, for record purposes, which respondents want MMS to file with the lease document. Accepted on behalf of lessees as a service, MMS does not require nor need the filiings | 0 $27 per filing.
64(a)(7) | File required instruments creating or transferring working interests, etc., for record purposes | 1
Subpart K: 76; 92(a) | File written request for relinquishment (Form MMS-152) | 1
77(c) | Comment on lease cancellation (MMS expects 1 in 10 years) | 1
Subpart N: 92(a) | Request a bonus or royalty credit; submit supporting documentation | 1
95 | Request approval to transfer bonus or credit to another party; submit supporting information | 1
124(a) | Request MMS to reconsider field assignment of a lease. Exempt under 5 CFR 1230.4(a)(2), (c) | 0

Estimated Reporting and Recordkeeping Non-Hour Cost Burden: There are three non-hour cost burdens to industry. They are as follows:

• § 256.64, Form MMS-150—Assignment of Record Title Interest in Federal OCS Oil and Gas Lease, $186/per response.

• § 256.64, Form MMS-151—Assignment of Operating Rights Interest in Federal OCS Oil and Gas Lease, $186/per response.

• § 256.64, Non-required document filing fee, $27/per response.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment-including your personal identifying information-may be made publicly available at any time. While you can ask us in your comment to withhold your personal identifying information from public review, we cannot guarantee that we will be able to do so.

MMS Information Collection Clearance Officer: Arlene Bajusz (202) 208-7744.

Dated: September 25, 2009.
E.P. Danenberger,
Chief, Office of Offshore Regulatory Programs.

[FR Doc. E9-24094 Filed 10-5-09; 8:45 am]

BILLING CODE 4310-MR-P